DEPARTMENT OF AGRICULTURE

Forest Service

Dixie Resource Advisory Committee

AGENCY: Forest Service, USDA.

ACTION: Notice of meeting date and location change.

SUMMARY: The Dixie Resource Advisory Committee will now meet in Cedar City, Utah. The committee is meeting as authorized under the Secure Rural Schools and Community Self-Determination Act (Pub. L. 112-141) and in compliance with the Federal Advisory Committee Act. The purpose of the committee is to improve collaborative relationships and to provide advice and recommendations to the Forest Service concerning projects and funding consistent with the title II of the Act. The meeting is open to the public. The purpose of the meeting is to review and recommend projects authorized under title II of the Act.

DATES: Friday, September 28, 2012, 9 a.m.

ADDRESSES: The meeting will be held at Dixie National Forest Supervisor's Office, 1789 North Wedgewood Lane, Cedar City, Utah.

Written comments may be submitted as described under Supplementary Information. All comments, including names and addresses when provided, are placed in the record and are available for public inspection and copying. The public may inspect comments received at 1789 North Wedgewood Lane, Cedar City, Utah. Please call ahead to (435) 865-3700 to facilitate entry into the building to view comments.

FOR FURTHER INFORMATION CONTACT: Janice Minarik, RAC Coordinator, Dixie National Forest, (435) 865-3794; email: jminarik@fs.fed.us. Individuals who use telecommunication devices for the deaf (TDD) may call the Federal Information Relay Service (FIRS) at 1-800-877-8339 between 8 a.m. and 8 p.m., Eastern Standard Time, Monday through Friday.

SUPPLEMENTARY INFORMATION: The following business will be conducted: (1) Welcome and committee introductions; (2) Review the purpose of the Act and re-authorization; (3) RAC project presentations and general discussion; and (4) Caucus discussions and final vote. The full agenda and additional information may be previewed at http://www.fs.usda.gov/dixie/. Anyone who would like to bring related matters to the attention of the committee may file written statements with the committee staff before or after the meeting. Written comments must be sent to the RAC Coordinator, 1789 North Wedgewood Lane, Cedar City, Utah 84721, or by email to jminarik@fs.fed.us, or via facsimile to (435) 865-3791. A summary of the meeting will be posted at http://www.fs.usda.gov/dixie/ within 21 days of the meeting.

Meeting Accommodations: If you are a person requiring reasonable accommodation, please make requests in advance for sign language interpreting, assistive listening devices or other reasonable accommodation for access to the facility for proceedings by contacting the person listed under FOR FURTHER INFORMATION CONTACT. All reasonable accommodation requests are managed on a case-by-case basis.

Dated: August 29, 2012.
Kevin R. Schulkoski,
Acting Forest Supervisor.

[FR Doc. 2012-21819 Filed 9-4-12; 8:45 am]

BILLING CODE 3410-11-P